DEPARTMENT OF DEFENSE

Office of the Secretary

[Transmittal No. 17-60]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-60 with attached Policy Justification.

Dated: March 27, 2018.
Shelly E. Finke,
Alternate OSD Federal Register Liaison Officer, Department of Defense.

Transmittal No. 17-60

Notice of Proposed Issuance of Letter of Offer Pursuant to Section 36(b)(1) of the Arms Export Control Act, as amended

(i) Prospective Purchaser: Kingdom of Saudi Arabia

(ii) Total Estimated Value:

Major Defense Equipment * | $ 0 million
Other | $300 million
Total | $300 million

(iii) Description and Quantity or Quantities of Articles or Services under Consideration for Purchase:

Major Defense Equipment (MDE): None

Non-MDE:

A new Foreign Military Sales Order (FMSO) II to provide funds for blanket order requisitions under a Cooperative Logistics Supply Support Agreement (CLSSA) for common spares/repair parts to support Saudi Arabia's fleet of M1A2 Abrams tanks, M2 Bradley Fighting Vehicles, High Mobility Multipurpose Wheeled Vehicles (HMMWVs), Light Armored Vehicles (LAVs), M198 Towed Howitzers, additional support, and other related elements of logistics and program support.

(iv) Military Department: Army (XX-B-KYN)

(v) Prior Related Cases, if any: SR-B-KYM, SR-B-KYL, SR-B-KSB, SR-B-KRK, SR-B-KRI, SR-B-KRE, SR-B-KRB, SR-B-KRA, SR-B-KLF, SR-B-KEZ, SR-B-UBW

(vi) Sales Commission, Fee, etc., Paid, Offered, or Agreed to be Paid: None

(vii) Sensitivity of Technology Contained in the Defense Article or Defense Services Proposed to be Sold: None

(viii) Date Report Delivered to Congress: March 22, 2018

*As defined in Section 47(6) of the Arms Export Control Act.

POLICY JUSTIFICATION

Saudi Arabia—Royal Saudi Land Forces Ordnance Corps Foreign Military Sales Order (FMSO) II Case

The Government of the Kingdom of Saudi Arabia has requested a possible purchase of a new Foreign Military Sales Order (FMSO) II to provide funds for blanket order requisitions under a Cooperative Logistics Supply Support Agreement (CLSSA) for common spares/repair parts to support Saudi Arabia's fleet of M1A2 Abrams tanks, M2 Bradley Fighting Vehicles, High Mobility Multipurpose Wheeled Vehicles (HMMWVs), Light Armored Vehicles (LAVs), M198 Towed Howitzers, additional support, and other related elements of logistics and program support. The total estimated program cost is $300 million.

This proposed sale will contribute to U.S. foreign policy and national security objectives by helping to improve the security of a friendly country which has been, and continues to be, an important force for political stability and economic growth in the Middle East. This potential sale is consistent with U.S. initiatives to provide key allies in the region with modern systems that will enhance interoperability with U.S. forces and increase stability.

The primary objective of this proposed sale is to allow the Royal Saudi Land Forces Ordnance Corps to continue to purchase needed spare/repair parts to maintain Saudi Arabia's fleet of M1A2 Abrams Tanks, M2 Bradley Fighting Vehicles, High Mobility Multipurpose Wheeled Vehicles (HMMWVs), Light Armored Vehicles (LAVs), M198 Towed Howitzers, additional support vehicles and other related logistics support as part of the Cooperative Logistics Supply Support Arrangement (CLSSA) program. Saudi Arabia will have no difficulty absorbing this equipment and support into its armed forces.

The proposed sale of this equipment and support will not alter the basic military balance in the region.

There are no principal contractors involved with this potential sale. There are no known offset agreements proposed in connection with this potential sale.

Implementation of this proposed sale will not require the permanent assignment of any U.S. Government or contractor representatives to Saudi Arabia.

There will be no adverse impact on U.S. defense readiness as a result of this proposed sale.

[FR Doc. 2018-06530 Filed 3-30-18; 8:45 am]

BILLING CODE 5001-06-P